DEPARTMENT OF LABOR

Employment and Training Administration

Notice of Re-establishment, Advisory Committee on Apprenticeship (ACA)

AGENCY: Employment and Training Administration, Labor.

ACTION: Re-establishment of the Advisory Committee on Apprenticeship.

SUMMARY: Notice is hereby given that after consultation with the General Services Administration, the Department of Labor has determined that the re-establishment of a national advisory committee on apprenticeship is necessary and in the public interest. Accordingly, the Employment and Training Administration has re-chartered the Advisory Committee on Apprenticeship (ACA). The charter for the ACA expired on February 13, 2005. The current charter was signed March 2, 2005, and will expire two years from that date.

FOR FURTHER INFORMATION CONTACT: Mr. Anthony Swoope, Administrator, Office of Apprenticeship Training, Employer and Labor Services, Employment and Training Administration, U.S. Department of Labor, Room N-4671, 200 Constitution Avenue, NW., Washington, DC 20210. Telephone: (202) 693-2796 (this is not a toll-free number).

Signed in Washington, DC, this 14th day of March, 2005.
Emily Stover DeRocco,
Assistant Secretary for Employment and Training.

[FR Doc. 05-5357 Filed 3-17-05; 8:45 am]

BILLING CODE 4510-30-M